FEDERAL DEPOSIT INSURANCE CORPORATION

Notice of Cancellation of Agency Meeting

Pursuant to the provisions of the “Government in the Sunshine Act” (5 U.S.C. 552b), notice is hereby given that the previously announced Open meeting of the Board of Directors of the Federal Deposit Insurance Corporation scheduled to be held at 10:00 a.m. on Thursday, November 16, 2023, has been CANCELLED.

The Board has decided to act notationally on the agenda items requiring action and therefore will not be holding a Board meeting today.

No earlier notice of this cancellation was practicable.

Dated at Washington, DC, on November 16, 2023.
Federal Deposit Insurance Corporation.
Authority: 5 U.S.C. 552b.
Dated: November 16, 2023.
James P. Sheesley,
Assistant Executive Secretary.

[FR Doc. 2023-25732 Filed 11-20-23; 8:45 am]

BILLING CODE 6714-01-P